DEPARTMENT OF JUSTICE

Antitrust Division

Notice Pursuant to the National Cooperative Research and Production Act of 1993—Telemanagement Forum

Notice is hereby given that, on June 6, 2001, pursuant to Section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Proxy Software Systems, Tel Aviv, Israel; Xacct Technologies, Inc., Santa Clara, CA; MCH-Group, MCN-Group, Neiweigein, The Netherlands; OnFiber Communications, Inc., Austin, TX; Longitude Systems, Chantilly, VA; Ortia, North Yorkshire, United Kingdom; Sheer Networks, Sunnyvale, CA; Santera Systems Inc., Plano, TX; CNI-NMG Telecoms, Lyon, France; Teloptica, Richardson, TX;

Trigon Technology Group, Richardson, TX; MFormation Technology Group, Iselin, NJ; Component Insights, Inc., Fairfax, VA; ComputerLand S.A., Warsaw, Poland; DivRisti Telkom, Bandung, Indonesia; Cinta Corporation, San Jose, CA; Advanced Radio Telecom, Bellevue, WA; WaveSmith Networks, Acton, MA; Callisma, White Plains, NY; Venimex, Atlanta, GA; Metex Systems Inc., Toronto, Ontario, Canada; IRIS Labs, Inc., Plano, TX; Telution, Inc., Chicago, IL; Cable & Wireless USA, Reston, VA; Mahi Networks, Petaluma, CA; Entricom, Seattle, WA; VPI Virtual Photononics, Holmdel, NJ; Valaran Corporation, Princeton, NJ; Last Mile Services, Inc., Valaran Corporation, Princeton, NJ; Last Mile Services, Inc., Sunnyvale, CA; Axiowave Networks, Marlborough, MA; Aplion Networks, Inc., Edison, NJ; System Management (SMARTS), White Plains, NY: Geneva Technology Ltd., Cambridge, United

Kingdom; Point Reyes Networks, Richardson, TX; Opticom, Andover, MA; Netonomy, Inc., Boston, MA; Oneline AG, Steinfeldstr, Germany; Shulist Group Inc., Bolton, Ontario Canada; Crescendo Ventures, Palo Alto, CA; Australian Communications Industry Ltd., North Sydney, New South Wales, Australia; Siebel Systems, Emeryville, CA; DSL.NET, Inc., New Haven, CT; Jacobs Rimell, London, United Kingdom; Cambridge Technology Partners, Miami, FL; Baan Company, Voorthuisen, The Netherlands; 360Networks, Seattle, WA; Step 9 Corporation, Fairfax, VA; AdventNet, Inc., Pleasanton, CA; Intalio, Inc., San Mateo, CA; Sodalia SpA., Trento, Italy; WFI Network Management Services Corporation, San Diego, CA; Computer Science Corporation, Rockville, MD; Siemens ICN Radio Networks, Milan, Italy; Telesoft SpA, Rome, Italy; EL Paso Networks, Houston, TX; Spazio Zerouno SpA, Milan, Italy; Cplane, Inc., Los Altos, CA; Sphera Optical Networks, Inc., New York, NY; World Wide Packets, Veradale, WA; AP Engines, Maryland, MA; Interlink Networks, Ann Arbor, MI; Pulsys BV, The Hague, The Netherlands; Brokat Technologies, San Jose, CA; ASG Technologies, Fredericton, New Brunswick, Canada; OJSC Kazaktelecom, Almaty, Kazakhstan; Wipro Technologies, Bangalore, India; Seneca Networks, Rockville, MD; CSG International Ltd., Slough, Berks, United Kingdom; SMG

Co., Ltd., Yokohama City, Japan; InterOptical, Inc., Saratoga, CA; Turin Networks, Inc., Petaluma, CA; Stonehouse Technologies Inc., Plano, TX; Network Management Research Center, Beijing, Peoples Republic of China; Quick Eagle Networks, Sunnyvale, CA; Equant, Atlanta, GA; Integris, Langen, Germany; Telefonica Moviles Espana, Madrid, Spain; Ascom Transmissions Ltd., Bern, Switzerland; Etnoteam SpA, Torino, Italy; Arkipelago Svenska, Stockholm, Sweden; Brix Networks, Chemsford, MA; Cell Telecom, Stockholm, Sweden; Corrigent Systems, Tel Aviv, Israel; Datang Software Technologies Co. Ltd., Beijing, Peoples Republic of China; Info Objects, Inc., San Jose, CA; Ingenium

Systems, Ltd., Ennis, County Clare, Ireland; Intelligent Communication Software, Muenchen, Germany; Mantra Communications Inc., Germantown, MD; Nethawk Solutions, Oulu, Finland; Redrock Communications, Bemtleigh, Victoria, Australia; Sykora GmbH, Buehl, Germany; Barrett AB, Froson, Sweden; IntelliObjects Inc., Columbia, MD; and Loox Software, Burlingham, CA have been added as parties to this venture.

In addition, Linmor Technologies, Ottawa, Ontario, Canada has reinstated its membership.

Also, the following existing members have changed their names: TTC is now called Acterna, Germantown, MD; Mantiss is now called Dygnety Inc., Chicago, IL; Smallworld Systems Inc. is now called GE Smallworld, Englewood, CO; US West is now called Qwest Communications, Inc., Denver, CO; Avnisoft is now called Varros Telecom, LLC, Sunnyvale, CA; Alcatel Networks Corporation is now called Alcatel Canada Inc., Kanata, Ontario, Canada; Andersen Consulting is now called Accenture, Washington, DC; Cambio is now called Telynx, Reston, VA; Optical Networks is now called ONI Systems, San Jose, CA; Algety is not called Corvis, Paris, France; CNI Logical is now called Logical, Zurich, Switzerland; eXcelon is now called Object Design, Burlington, MA; Heikimian is now called Spirent Communications, Gaithersburg, MD; Nextlink is now called XO Communications, Reston, VA; and Telecom Italia is now called Telecom Italia Lab SpA, Torino, Italy.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1998 (53 FR 49615).

The last notification was filed in the Department on September 11, 2000. A notice was published in the Federal Register pursuant to Section 6(b) of the Act on March 23, 2001 (66 FR 16295).

Constance K. Robinson,
Director of Operations, Antitrust Division.

[FR Doc. 01-25881 Filed 10-12-01; 8:45 am]

BILLING CODE 4410-11-M